DEPARTMENT OF TRANSPORTATION

National Highway Traffic Safety Administration

Petition for Exemption from the Vehicle Theft Prevention Standard; Fuji Heavy Industries U.S.A., Inc.

AGENCY: National Highway Traffic Safety Administration (NHTSA), Department of Transportation (DOT).

ACTION: Grant of petition for exemption.

SUMMARY: This notice grants in full the petition of Fuji Heavy Industries U.S.A., Inc. (Fuji) for an exemption in accordance with § 543.9(c)(2) of 49 CFR part 543, Exemption from the Theft Prevention Standard, for the Subaru B9 Tribeca vehicle line beginning with model year (MY) 2006. This petition is granted because the agency has determined that the antitheft device to be placed on the line as standard equipment is likely to be as effective in reducing and deterring motor vehicle theft as compliance with the parts-marking requirements of the Theft Prevention Standard.

DATES: The exemption granted by this notice is effective September 1, 2006.

FOR FURTHER INFORMATION CONTACT: Ms. Rosalind Proctor, Office of International Policy, Fuel Economy and Consumer Programs, NHTSA, 400 Seventh Street, SW., Washington, DC 20590. Ms. Proctor's telephone number is (202) 366-0846. Her fax number is (202) 493-2290.

SUPPLEMENTARY INFORMATION: In a petition dated July 19, 2005, Fuji Heavy Industries U.S.A., Inc. (Fuji), requested an exemption from the parts-marking requirements of the theft prevention standard (49 CFR part 541) for the Subaru B9 Tribeca vehicle line. The petition has been filed pursuant to 49 CFR part 543, Exemption from Vehicle Theft Prevention Standard, based on the installation of an antitheft device as standard equipment for an entire vehicle line. Fuji's submission is considered a complete petition as required by 49 CFR 543.7, in that it meets the general requirements contained in § 543.5 and the specific content requirements of § 543.6. Under § 543.5(a), a manufacturer may petition NHTSA to grant exemptions for one line of its vehicle lines per year.

In its petition, Fuji provided a detailed description and diagram of the identity, design, and location of the components of the antitheft device for the vehicle line. The antitheft device is a passive transponder-based, electronic, immobilizer system. The device is automatically activated after 30 seconds if the ignition is simply moved to the “off” position or when the engine is shut off and the vehicle key is removed from the ignition. Fuji will install its antitheft device as standard equipment on its B9 Tribeca vehicle line beginning with MY 2006.

Fuji stated that the antitheft device controls engine ignition, fuel delivery and starter motor operation. This device prevents the engine from unauthorized operation such as “hot-wiring”. The proposed device will also have an alarm feature that will monitor the doors and key identification. The visual and audio features (and “panic” mode) of the standard equipment antitheft device will attract attention to the efforts of an unauthorized person to enter or move the vehicle by sounding the vehicle's horn and illuminating its 4-way flashing hazard lamps.

The immobilization feature of the device will prevent the vehicle from being driven away under its own engine power in the event the ignition lock and doors have been manipulated. Fuji stated that integration of the antitheft device immobilization with the overall vehicle Controller Area Network (CAN) electrical architecture and control modules makes it nearly impossible for the immobilization features to be disabled or bypassed without also disabling all other body and engine controls. The engine will not start or run unless the ID code registered in the ignition key coincides with the code registered in the immobilizer engine control unit (ECU) of the vehicle. When the engine ECU receives a signal that the ID code matches, it allows engine fuel delivery and ignition. If the codes are not received, even with the use of a correct mechanical key, the electronic immobilization features of the key/vehicle antitheft system interface will not be defeated.

In addressing the specific content requirements of 543.6, Fuji provided information on the reliability and durability of its device. To ensure reliability and durability of the device, Fuji conducted tests based on its own specified standards. Fuji also provided a detailed list of the tests conducted and believes that the device is reliable and durable since the device complied with its specified requirements for each test.

Fuji stated its belief that NHTSA has seen a trend in the past that theft rates drop dramatically on vehicles when electronic immobilization has been added to the alarm system. Fuji has concluded that the antitheft device proposed for its vehicle line is no less effective than those devices in the lines for which NHTSA has already granted full exemption from the parts-marking requirements.

Based on the evidence submitted by Fuji, the agency believes that the antitheft device for the Subaru B9 Tribeca vehicle line is likely to be as effective in reducing and deterring motor vehicle theft as compliance with the parts-marking requirements of the Theft Prevention Standard (49 CFR 541).

The agency concludes that the device will provide five of the types of performance listed in § 543.6(a)(3): promoting activation; attracting attention to the efforts of an unauthorized person to enter or operate a vehicle by means other than a key; preventing defeat or circumvention of the device by unauthorized persons; preventing operation of the vehicle by unauthorized entrants; and ensuring the reliability and durability of the device.

As required by 49 U.S.C. 33106 and 49 CFR 543.6 (a)(4) and (5), the agency finds that Fuji has provided adequate reasons for its belief that the antitheft device will reduce and deter theft. This conclusion is based on the information Fuji provided about its device. For the foregoing reasons, the agency hereby grants in full Fuji's petition for exemption for the vehicle line from the parts-marking requirements of 49 CFR part 541.

If Fuji decides not to use the exemption for this line, it must formally notify the agency, and, thereafter, the line must be fully marked as required by 49 CFR parts 541.5 and 541.6 (marking of major component parts and replacement parts).

NHTSA notes that if Fuji wishes in the future to modify the device on which this exemption is based, the company may have to submit a petition to modify the exemption. Part 543.7(d) states that a part 543 exemption applies only to vehicles that belong to a line exempted under this part and equipped with the anti-theft device on which the line's exemption is based. Further, §543.9(c)(2) provides for the submission of petitions “to modify an exemption to permit the use of an antitheft device similar to but differing from the one specified in that exemption.”

The agency wishes to minimize the administrative burden that part 543.9(c)(2) could place on exempted vehicle manufacturers and itself. The agency did not intend part 543 to require the submission of a modification petition for every change to the components or design of an antitheft device. The significance of many such changes could be de minimis. Therefore, NHTSA suggests that if the manufacturer contemplates making any changes the effects of which might be characterized as de minimis, it should consult the agency before preparing and submitting a petition to modify.

Authority: 49 U.S.C. 33106; delegation of authority at 49 CFR 1.50.

Issued on: October 3, 2005.
Stephen R. Kratzke,
Associate Administrator for Rulemaking.

[FR Doc. 05-20186 Filed 10-6-05; 8:45 am]

BILLING CODE 4910-59-P